DEPARTMENT OF ENERGY

Federal Energy Regulatory Commission

Notice of Commission and Commission Staff Attendance at ISO/RTO Council and Regional State Committees Meeting

The Federal Energy Regulatory Commission hereby gives notice that members of the Commission and Commission staff may attend the following ISO/RTO Council and Regional State Committees meeting:

Saturday, February 12, 2011, 1 p.m.-4 p.m., Grand Ballroom Central, Renaissance Washington Hotel, 999 Ninth Street, NW., Washington DC 20001.

Further information may be found at http://winter.narucmeetings.org/.

The above-referenced meeting is open to the public.

The discussions at the meeting described above may address matters at issue in the following proceeding:

Docket No. AD10-5-000, RTO/ISO Performance Metrics.

For more information, contact Sandra Waldstein, Office of External Affairs, Federal Energy Regulatory Commission at (202) 502-8092 or sandra.waldstein@ferc.gov.

Dated: February 4, 2011.
Kimberly D. Bose,
Secretary.

[FR Doc. 2011-3155 Filed 2-10-11; 8:45 am]

BILLING CODE 6717-01-P